DEPARTMENT OF LABOR

Employment and Training Administration

[TA-W-51,378]

American Quality Ceramics, Tempo Lighting, Inc., Bangs, Texas; Amended Certification Regarding Eligibility to Apply for Worker Adjustment Assistance

In accordance with section 223 of the Trade Act of 1974 (19 U.S.C. 2273) the Department of Labor issued a Certification of Eligibility to Apply for Worker Adjustment Assistance on April 23, 2003, applicable to workers of American Quality Ceramics, Bangs, Texas. The notice was published in the Federal Register on May 7, 2003 (68 FR 24504).

At the request of the State agency, the Department reviewed the certification for workers of the subject firm. The workers were engaged in the production of collectible plates and mugs.

New information shows that Tempo Lighting, Inc. is the parent firm of American Quality Ceramics. Information also shows that workers separated from employment at the subject firm had their wages reported under a separate unemployment insurance (UI) tax account for Tempo Lighting, Inc.

Accordingly, the Department is amending the certification to properly reflect this matter.

The intent of the Department's certification is to include all workers of American Quality Ceramics, Bangs who were adversely affected by increased imports.

The amended notice applicable to TA-W-51,378 is hereby issued as follows:

“All workers of American Quality Ceramics, Tempo Lighting, Inc., Bangs, Texas, who became totally or partially separated from employment on or after March 31, 2002, through April 23, 2005, are eligible to apply for adjustment assistance under section 223 of the Trade Act of 1974.”

Signed at Washington, DC this 24th day of June 2003.
Elliott S. Kushner,
Certifying Officer, Division of Trade Adjustment Assistance.

[FR Doc. 03-16900 Filed 7-2-03; 8:45 am]

BILLING CODE 4510-30-P